FEDERAL COMMUNICATIONS COMMISSION

[DA 13-184]

Notice of Debarment

AGENCY: Federal Communications Commission.

ACTION: Notice.

SUMMARY: The Enforcement Bureau (the “Bureau”) debars Denisa Babcock from the schools and libraries universal service support mechanism (or “E-Rate Program”) for a period of three years. The Bureau takes this action to protect the E-Rate Program from waste, fraud, and abuse.

DATES: Debarment commences on the date Ms. Denisa Babcock receives the debarment letter or April 1, 2013, whichever date comes first, for a period of three years.

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Ms. Theresa Cavanaugh, Chief, Investigations and Hearings Division, by telephone at (202) 418-1420 and by email at Theresa.Cavanaugh@fcc.gov.

SUPPLEMENTARY INFORMATION: The Bureau debarred Ms. Denisa Babcock from the schools and libraries service support mechanism for a period of three years pursuant to 47 CFR 54.8. Attached is the debarment letter, DA 13-184, which was mailed to Ms. Babcock and released on February 8, 2013. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

February 8, 2013

DA 13-184

SENT VIA CERTIFIED MAIL, RETURN RECEIPT REQUESTED AND EMAIL

Ms. Denisa Babcock

c/o Leon Fred Spies

Mellon & Spies

312 E. College Street, Suite 216

Iowa City, IA 52240

Re: Notice of Debarment

FCC File No. EB-12-IH-1396

Dear Ms. Babcock:

The Federal Communications Commission (Commission) hereby notifies you that, pursuant to Section 54.8 of its rules, you are prohibited from participating in activities associated with or relating to the schools and libraries universal service support mechanism (E-Rate program) for three years from either the date of your receipt of this Notice of Debarment, or of its publication in the Federal Register, whichever is earlier in time (Debarment Date).¹

¹ 47 CFR 54.8(g); see also 47 CFR 0.111 (delegating authority to the Enforcement Bureau to resolve universal service suspension and debarment proceedings).

On October 10, 2012, the Commission's Enforcement Bureau (Bureau) sent you a Notice of Suspension and Initiation of Debarment Proceeding (Notice of Suspension) ² that was published in the Federal Register on November 9, 2012.³ The Notice of Suspension suspended you from participating in activities associated with or relating to the E-Rate program. It also described the basis for initiating debarment proceedings against you, the applicable debarment procedures, and the effect of debarment.

² Letter from Theresa Z. Cavanaugh, Chief, Investigations and Hearings Division, Enforcement Bureau, Federal Communications Commission to Denisa Babcock, Notice of Suspension and Initiation of Debarment Proceeding, 27 FCC Rcd 12311 (Enf. Bur. 2012) (Attachment 1) (Suspension Notice).

³ 77 FR 67363 (Nov. 9, 2012).

As discussed in the Notice of Suspension, on May 11, 2011, you pled guilty to converting more than $1,000,000 from various school districts for your personal use from November 2005 through December 2009.⁴ That amount included approximately $49,000 in E-Rate checks payable to the school districts you represented through your E-Rate consulting company, Camanche Consulting Services (CCS).⁵ Pursuant to Section 54.8(c) of the Commission's rules, your conviction of criminal conduct in connection with the E-Rate program is the basis for this debarment.⁶

⁴ Suspension Notice, 27 FCC Rcd at 12312.

⁵ Id.

⁶ 47 CFR 54.8(c).

In accordance with the Commission's debarment rules, you were required to file with the Commission any opposition to your suspension or its scope, or to your proposed debarment or its scope, no later than 30 calendar days from either the date of your receipt of the Notice of Suspension or of its publication in the Federal Register, whichever date occurred first.⁷ The Commission did not receive any such opposition from you.

⁷ 47 CFR 54.8(e)(3), (4). Any opposition had to be filed no later than November 9, 2012.

For the foregoing reasons, you are debarred from participating in activities associated with or related to the E-Rate program for three years from the Debarment Date.⁸ During this debarment period, you are excluded from participating in any activities associated with or related to the E-Rate program, including the receipt of funds or discounted services through the E-Rate program, or consulting with, assisting, or advising applicants or service providers regarding the E-Rate program.⁹

⁸ Id. §§ 54.8(e)(5), (g).

⁹ Id. §§ 54.8(a)(1), (5), (d).

Sincerely,

Theresa Z. Cavanaugh,

Chief, Investigations and Hearings Division Enforcement Bureau

cc: Johnnay Schrieber, Universal Service Administrative Company (via email)

Rashann Duvall, Universal Service Administrative Company (via email)

Maureen McGuire, United States Attorney's Office, Southern District of Iowa (via email)

Richard Westphal, United States Attorney's Office, Southern District of Iowa (via email)

[FR Doc. 2013-04712 Filed 2-27-13; 8:45 am]

BILLING CODE 6712-01-P